DEPARTMENT OF THE INTERIOR

National Park Service

Merced Wild and Scenic River Revised Comprehensive Management Plan; Yosemite National Park, Mariposa and Madera Counties, CA; Notice of Intent To Prepare Supplemental Environmental Impact Statement

Summary: Pursuant to provisions of the National Environmental Policy Act (Pub. L. 91-190), the Wild and Scenic Rivers Act (Pub. L. 90-542), and the Order of the U.S. District Court for the Eastern District of California, the National Park Service is initiating public scoping for the conservation planning and environmental impact analysis process necessary for revising the Merced Wild and Scenic River Comprehensive Management Plan (CMP) and preparing a Supplemental Environmental Impact Statement (SEIS). The revised plan will address factors identified by the Court, including user capacities throughout the entire park corridor and the river corridor boundary in El Portal. The purpose of this scoping phase is to elicit early public comments regarding issues and concerns to be addressed, including a suitable range of alternatives, appropriate mitigation measures, and the nature and extent of potential environmental impacts.

Background: In 1987, Congress designated 122 miles of the Merced River as Wild and Scenic, including 81 miles within Yosemite National Park and the El Portal Administrative Site. Subsequently the U.S. Forest Service and Bureau of Land Management jointly completed a comprehensive management plan for those portions of the Merced River within their jurisdiction outside of Yosemite National Park. The National Park Service (NPS) completed all planning for the NPS administered river segments with the signing, on August 9, 2000, of the Record of Decision for the Merced Wild and Scenic River Comprehensive Management Plan/Final Environmental Impact Statement (a revised Record of Decision was signed on November 3, 2000). In February 2001, the Merced Wild and Scenic River Comprehensive Management Plan was released, which set forth the approved management policies and guidelines for the Merced Wild and Scenic River (analyzed as the Preferred Alternative in the Merced Wild and Scenic River Comprehensive Management Plan/Final Environmental Impact Statement, and modified by the Record of Decision). In accord with the 1968 Wild and Scenic Rivers Act, the river segments within Yosemite National Park and the El Portal Administrative Site were classified, boundaries delineated, and outstandingly remarkable values identified.

In August 2000, subsequent to the original signing of the Record of Decision, a lawsuit was brought against the completed plan in the U.S. District Court for the Eastern District of California by the Friends of Yosemite Valley and Mariposans for Environmentally Responsible Growth (Friends of Yosemite Valley v. Norton, 194 F.Supp.2d 1066). In April 2004, the U.S. Court of Appeals for the Ninth Circuit issued an Order granting “a temporary stay of proceedings and an injunction prohibiting NPS from implementing any and all projects developed in reliance upon the invalid CMP.”, and clarified its Opinion of October 27, 2003, stating the Court “held that the entire Merced Wild and Scenic River Comprehensive Management Plan (CMP) is invalid due to two deficiencies: (1) A failure to adequately address user capacities; and (2) the improper drawing of the Merced River's boundaries at El Portal” (Friends of Yosemite Valley v. Norton, 348 F.3d 789, 803 9th Cir. 2003).

The Merced Wild and Scenic River Comprehensive Management Plan/Final Environmental Impact Statement, its Record of Decision, the 2001 Merced Wild and Scenic River Comprehensive Management Plan, and the U.S. District Court Order defining the scope of this supplemental conservation planning effort, are available at http://www.nps.gov/yose/planning/. Copies of the 2001 Comprehensive Management Plan may also be obtained by phoning (209) 379-1365 or writing to the Superintendent at the address below.

Scoping and Public Meetings: Participation of interested individuals and organizations will be a key element of the current conservation planning and environmental analysis process. Concurrently, tribal, Federal, State, and local government representatives will be consulted. All written comments received during the scoping period and public meetings will aid in preparing the Merced Wild and Scenic River Revised Comprehensive Management Plan/Supplemental Environmental Impact Statement. Suggestions regarding issues to be addressed and information relevant to determining the scope of the current conservation planning and environmental impact analysis process are being sought for a 30-day period beginning on the publication date of this NOI (and immediately upon confirmation of this date an announcement of the duration of the scoping period will be posted on the park Web site, and press releases distributed to local and regional media). Public scoping meetings will be held during July including the following locations: Yosemite Valley, Mariposa, and the San Francisco Bay Area; dates, times, specific locations, and additional information will be released via regional and local news media, and updates will also be available at the above website or phone.

Scope of issues identified to date include: Land management, user capacities, appropriate types and levels of recreation, and protection and enhancement of the Merced River's Outstandingly Remarkable Values. All scoping comments received will be incorporated into a comment database and considered during revision of the CMP, and are to be addressed to the Superintendent, Attn: Merced River Plan, PO Box 577, Yosemite National Park, CA 95389, or faxed to (209) 379-1294, and must be postmarked not later than 30 days from the publication date of the NOI (if sent via e-mail or fax, transmitted by that date to Yose_Planning@nps.gov). Please note that names and addresses of people who comment become part of the public record. If individuals commenting request that their name or\and address be withheld from public disclosure, it will be honored to the extent allowable by law. Such requests must be stated prominently in the beginning of the comments. There also may be circumstances wherein the NPS will withhold from the record a respondent's identity, as allowable by law. As always: NPS will make available to public inspection all submissions from organizations or businesses and from persons identifying themselves as representatives or officials of organizations and businesses; and, anonymous comments are not considered.

Decision Process: Announcements of future public involvement opportunities, including availability of the draft CMP/SEIS for review, will be achieved via regional news media, direct mailings, and the Federal Register. After due consideration of all comments received on the draft CMP/SEIS, a final document will be prepared and its availability similarly announced. As this is a delegated EIS, the official responsible for the final decision regarding the forthcoming plan is the Regional Director, Pacific West Region, National Park Service; the official responsible for subsequent implementation would be the Superintendent, Yosemite National Park.

Dated: June 9, 2004.
Jonathan B. Jarvis,
Regional Director, Pacific West Region.

[FR Doc. 04-16991 Filed 7-26-04; 8:45 am]

BILLING CODE 4312-FY-P